DEPARTMENT OF ENERGY

Federal Energy Regulatory Commission

Notice of Membership of Performance Review Board for Senior Executives (PRB)

March 24, 2003.

The Federal Energy Regulatory Commission hereby provides notice of the membership of its Performance Review Board (PRB) for the Commission's Senior Executive Service (SES) members. The function of this board is to make recommendations relating to the performance of senior executives in the Commission. This action is undertaken in accordance with Title 5, U.S.C. 4314(c)(4). The Commission's PRB will include the following new member: William F. Hederman.

Magalie R. Salas,
Secretary.

[FR Doc. 03-7585 Filed 3-28-03; 8:45 am]

BILLING CODE 6717-01-P